DEPARTMENT OF COMMERCE

International Trade Administration

(A-549-502)

Circular Welded Carbon Steel Pipes and Tubes from Thailand: Final Results of Antidumping Duty Administrative Review

AGENCY: Import Administration, International Trade Administration, Department of Commerce.

SUMMARY: On April 7, 2008, the Department of Commerce (the Department) published the preliminary results of administrative review of the antidumping duty order on circular welded carbon steel pipes and tubes from Thailand. The review was requested by Allied Tube and Conduit Corporation and Wheatland Tube Company (collectively, petitioners), and covers one producer of the subject merchandise, Saha Thai Steel Pipe (Public) Company, Ltd. (Saha Thai). The period of review (POR) is March 1, 2006 through February 28, 2007. Based on our analysis of the comments received, we have made changes to the preliminary results, which are discussed in the “Changes Since the Preliminary Results” section below. For the final dumping margins, see the “Final Results of Review” section below.

EFFECTIVE DATE: October 15, 2008.

FOR FURTHER INFORMATION CONTACT: Myrna Lobo or Jacqueline Arrowsmith, AD/CVD Operations, Office 6, Import Administration, International Trade Administration, U.S. Department of Commerce, 14th Street & Constitution Avenue, N.W., Washington, DC 20230; telephone: (202) 482-2371 or (202) 482-5255, respectively.

SUPPLEMENTARY INFORMATION:

Background

On April 7, 2008, the Department published in the Federal Register the preliminary results of the administrative review of the antidumping duty order on circular welded pipes and tubes from Thailand. See Circular Welded Carbon Steel Pipes and Tubes from Thailand: Preliminary Results of Antidumping Duty Administrative Review, 73 FR 18749 (April 7, 2008) (Preliminary Results).

In the Preliminary Results, the Department stated its intention to request additional information from Saha Thai on certain issues for which the record of this administrative review was not completely clear. On April 11, 2008, we issued a supplemental questionnaire to Saha Thai and its affiliated resellers. Saha Thai submitted its response on May 5, 2008.

We invited parties to comment on the Preliminary Results. On April 23, 2008, we revised the due dates for comments and informed parties of the same. On May 21 and May 28, 2008, we received timely case briefs and rebuttal briefs, respectively, from both petitioners and respondent.

On July 22, 2008, the Department extended the final results from August 5, 2008 to October 6, 2008. See Circular Welded Carbon Steel Pipes and Tubes from Thailand: Extension of Time Limit for Final Results of Antidumping Duty Administrative Review, 73 FR 42548 (July 22, 2008).

Period of Review

The period of review (POR) is March 1, 2006 through February 28, 2007.

Scope of the Order

The products covered by this antidumping order are certain welded carbon steel pipes and tubes from Thailand. The subject merchandise has an outside diameter of 0.375 inches or more, but not exceeding 16 inches. These products, which are commonly referred to in the industry as “standard pipe” or “structural tubing,” are hereinafter designated as “pipes and tubes.” The merchandise is classifiable under the Harmonized Tariff Schedule of the United States (HTSUS) item numbers 7306.30.1000, 7306.30.5025, 7306.30.5032, 7306.30.5040, 7306.30.5055, 7306.30.5085, and 7306.30.5090. Although the HTSUS subheadings are provided for convenience and purposes of U.S. Customs and Border Protection (CBP), our written description of the scope of the order is dispositive.

Analysis of Comments Received

The issues raised in the case and rebuttal briefs by parties to this administrative review are addressed in the Memorandum from Stephen J. Claeys, Deputy Assistant Secretary for Import Administration to David M. Spooner, Assistant Secretary for Import Administration: Issues and Decision Memorandum for the Final Results of the Administrative Review of the Antidumping Duty Order on Circular Welded Pipes and Tubes from Thailand (Decision Memorandum), dated concurrently with this notice and which is hereby adopted by this notice. A list of the issues addressed in the Decision Memorandum is appended to this notice. The Decision Memorandum is on file in the Central Records Unit, room 1117 of the main Department of Commerce building (CRU), and can be accessed directly on the Web at http://ia.ita.doc.gov/frn. The paper copy and electronic version of the Decision Memorandum are identical in content.

Changes Since the Preliminary Results

Based on our analysis of comments received and our consideration of information submitted by Saha Thai on May 5, 2008 in its supplemental questionnaire response, received subsequent to the issuance of the preliminary results, we have made adjustments to our margin calculations. We have granted Saha Thai a duty drawback adjustment under section 772(c)(1)(B) the Tariff Act of 1930, as amended (the Act), based on the exemption of import duties on raw materials used in the exported pipes and tube. However, we have adjusted the calculation of the yield factor used in calculating this duty drawback adjustment. We also added the value of these exempted import duties to the cost of manufacture. For these final results, we decided to use the U.S. customs duty as reported by Saha Thai. In addition, we made certain modifications to the program to ensure proper product comparisons. These adjustments are discussed in detail in the Decision Memorandum.

Final Results of Review

As a result of our review, we determine that the following weighted-average margin exists for the period of March 1, 2006 through February 28, 2007:

Manufacturer/Exporter | Weighted-Average Margin (percent)
Saha Thai Steel Pipe (Public) Company, Ltd. | 4.26

Assessment Rates

The Department shall determine, and U.S. Customs and Border Protection (CBP) shall assess, antidumping duties on all appropriate entries. Pursuant to 19 CFR 351.212(b)(1) of the Department's regulations, the Department calculates an assessment rate for each importer of the subject merchandise. The Department intends to issue appropriate assessment instructions directly to CBP 15 days after the date of publication of these final results of review.

The Department clarified its “automatic assessment” regulation on May 6, 2003 (68 FR 23954). This clarification will apply to entries of subject merchandise during the period of review produced by the company included in these final results of review for which the reviewed company did not know their merchandise was destined for the United States. In such instances, we will instruct CBP to liquidate unreviewed entries at the all-others rate from the investigation if there is no rate for the intermediate company involved in the transaction. For a full discussion of this clarification, see Antidumping and Countervailing Duty Proceedings: Assessment of Antidumping Duties, 68 FR 23954 (May 6, 2003).

Cash Deposit Requirements

The following deposit requirements will be effective upon publication of the final results of this administrative review for all shipments of subject merchandise entered, or withdrawn from warehouse, for consumption on or after the publication date of these final results, as provided by section 751(a)(2)(C) of the Act: (1) for the company covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and, (4) if neither the exporter nor the producer is a firm covered in this review or in any previous segment of this proceeding, the cash deposit rate will be 15.67 percent, the all-others rate established in the less than fair value investigation. See Circular Welded Carbon Steel Pipes and Tubes from Thailand: Final Determination of Sales at Less Than Fair Value, 51 FR 3384 (January 27, 1986).

Notification to Importers

This notice also serves as a final reminder to importers of their responsibility under 19 CFR 351.402(f) of the Department's regulations to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305(a)(3) of the Department's regulations. Timely written notification of the return or destruction of APO materials or conversion to judicial protective order is hereby requested. Failure to comply with the regulations and the terms of an APO is a sanctionable violation.

We are issuing and publishing these final results and this notice in accordance with sections 751(a)(1) and 777(i)(1) of the Act.

Dated: October 6, 2008.
David M. Spooner,
Assistant Secretary for Import Administration.

Appendix I - Issues in Decision Memorandum

Comment 1: Whether Saha Thai Has Met Both Prongs of the Department's Duty Drawback Test

Comment 2: Whether Saha Thai Should Receive an Upward Adjustment for Duty Drawback/Exemption

Comment 3: Whether the Department Should Add a “Third” Prong to Its Eligibility Test

Comment 4: Whether the Department Should Use Saha Thai's Actual Yield Factors in Evaluating the Duty Exemption

Comment 5: Whether to Include Exempted and Unpaid Duties on Imported Raw Materials in Saha Thai's Reported Cost of Manufacture (COM)

Comment 6: Whether the Department Needs to Make Corresponding Adjustments to the G&A and Interest Ratio Calculations if Unpaid Import Duties Are Included in Saha Thai's COM

Comment 7: Whether to Deduct Ocean Freight from C&F Value to Calculate U.S. Duty

Comment 8: Level of Trade Adjustment

Comment 9: Whether Zeroing Is In Accordance with the Antidumping Statute or the International Obligations of the United States

Comment 10: Whether the Department Should Correct Alleged Errors in the Preliminary G&A and Financial Expense Ratio Calculations

Comment 11: Alleged Programming Errors

[FR Doc. E8-24481 Filed 10-14-08; 8:45 am]

BILLING CODE 3510-DS-S